DEPARTMENT OF ENERGY

Federal Energy Regulatory Commission

Combined Notice of Filings #1

Take notice that the Commission received the following electric corporate filings:

Docket Numbers: EC16-146-000.

Applicants: Great Plains Energy, Westar Energy, Inc.

Description: Joint Application of Great Plains Energy Incorporated and Westar Energy, Inc. for Authorization of Disposition of Jurisdictional Assets and Merger.

Filed Date: 7/11/16.

Accession Number: 20160711-5204.

Comments Due: 5 p.m. ET 9/9/16.

Take notice that the Commission received the following exempt wholesale generator filings:

Docket Numbers: EG16-127-000.

Applicants: East Pecos Solar, LLC.

Description: Self-Certification of EG or FC of East Pecos Solar, LLC.

Filed Date: 7/12/16.

Accession Number: 20160712-5045.

Comments Due: 5 p.m. ET 8/2/16.

Take notice that the Commission received the following electric rate filings:

Docket Numbers: ER10-2507-008.

Applicants: Westar Energy, Inc.

Description: Notice of Non-Material Change in Status of Westar Energy, Inc.

Filed Date: 7/11/16.

Accession Number: 20160711-5205.

Comments Due: 5 p.m. ET 8/1/16.

Docket Numbers: ER10-2633-025; ER10-2570-025; ER10-2717-025; ER10-3140-025; ER13-55-015.

Applicants: Birchwood Power Partners, L.P., Shady Hills Power Company, L.L.C., EFS Parlin Holdings, LLC, Inland Empire Energy Center, LLC, Homer City Generation, L.P.

Description: Supplement to July 7, 2016 Notice of Non-Material Change in Status of the GE Companies under ER10-2633, et al.

Filed Date: 7/7/16.

Accession Number: 20160708-5080.

Comments Due: 5 p.m. ET 7/28/16.

Docket Numbers: ER16-1882-000.

Applicants: Boulder Solar Power, LLC.

Description: Supplement to June 3, 2016 Boulder Solar Power, LLC tariff filing.

Filed Date: 7/11/16.

Accession Number: 20160711-5201.

Comments Due: 5 p.m. ET 8/1/16.

Docket Numbers: ER16-2176-000.

Applicants: Pacific Gas and Electric Company.

Description: Application of Pacific Gas and Electric Company for a One-Time Waiver of a Generator Interconnection Procedures requirement in its Wholesale Distribution Tariff (FERC Electric Tariff Volume No. 4).

Filed Date: 7/11/16.

Accession Number: 20160711-5200.

Comments Due: 5 p.m. ET 8/1/16.

Docket Numbers: ER16-2177-000.

Applicants: PJM Interconnection, L.L.C.

Description: Tariff Cancellation: Notice of Cancellation of WMPA SA No. 4461, Queue No. W4-027 to be effective 7/19/2016.

Filed Date: 7/12/16.

Accession Number: 20160712-5025.

Comments Due: 5 p.m. ET 8/2/16.

Docket Numbers: ER16-2178-000.

Applicants: NorthWestern Corporation.

Description: § 205(d) Rate Filing: SA 781—Agreement with Montana DOT re Whitehall-South Project to be effective 7/13/2016.

Filed Date: 7/12/16.

Accession Number: 20160712-5032.

Comments Due: 5 p.m. ET 8/2/16.

Docket Numbers: ER16-2179-000.

Applicants: Duke Energy Progress, LLC, Duke Energy Florida, LLC, Duke Energy Carolinas, LLC.

Description: § 205(d) Rate Filing: Order No. 827 Compliance Filing to be effective 9/21/2016.

Filed Date: 7/12/16.

Accession Number: 20160712-5038.

Comments Due: 5 p.m. ET 8/2/16.

Docket Numbers: ER16-2180-000.

Applicants: NorthWestern Corporation.

Description: § 205(d) Rate Filing: SA 782—Agreement with City of Bozeman re Story Mill Park to be effective 7/13/2016.

Filed Date: 7/12/16.

Accession Number: 20160712-5070.

Comments Due: 5 p.m. ET 8/2/16.

Docket Numbers: ER16-2182-000.

Applicants: International Transmission Company, Michigan Electric Transmission Company, LLC, ITC Midwest LLC, ITC Great Plains, LLC.

Description: International Transmission Company, et al. submits Compliance Refund Report per 35.19a(b): [4/19/2016 Letter Order in FA14-15].

Filed Date: 7/7/16.

Accession Number: 20160707-5237.

Comments Due: 5 p.m. ET 7/28/16.

Docket Numbers: ER16-2183-000.

Applicants: New York Independent System Operator, Inc.

Description: § 205(d) Rate Filing: NYISO filing of LGIA (SA 2276) among NYISO, NYPA and Jericho Rise Wind Farm to be effective 6/29/2016.

Filed Date: 7/12/16.

Accession Number: 20160712-5129.

Comments Due: 5 p.m. ET 8/2/16.

Docket Numbers: ER16-2184-000.

Applicants: Southern California Edison Company.

Description: § 205(d) Rate Filing: Amended Letter Agreement City of Pasadena to be effective 9/11/2016.

Filed Date: 7/12/16.

Accession Number: 20160712-5134.

Comments Due: 5 p.m. ET 8/2/16.

Docket Numbers: ER16-2185-000.

Applicants: Westar Energy, Inc.

Description: § 205(d) Rate Filing: Cost-Based Tariff Vol. No. 20 to be effective 8/31/2010.

Filed Date: 7/12/16.

Accession Number: 20160712-5138.

Comments Due: 5 p.m. ET 8/2/16.

Take notice that the Commission received the following electric securities filings:

Docket Numbers: ES16-42-000.

Applicants: Trans Bay Cable LLC.

Description: Application under Section 204 of the Federal Power Act for Authority to Issue Securities of Trans Bay Cable LLC.

Filed Date: 7/12/16.

Accession Number: 20160712-5087.

Comments Due: 5 p.m. ET 8/2/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 12, 2016.
Nathaniel J. Davis, Sr.,
Deputy Secretary.

[FR Doc. 2016-16878 Filed 7-15-16; 8:45 am]

BILLING CODE 6717-01-P